DEPARTMENT OF DEFENSE

Office of the Secretary

[Docket ID: DoD-2008-OS-0103]

Privacy Act of 1974; System of Records

AGENCY: Office of the Secretary, DoD.

ACTION: Notice for a new system of records.

SUMMARY: The Office of the Secretary of Defense is adding a new system of records notice in its existing inventory of record systems subject to the Privacy Act of 1974, (5 U.S.C. 552a), as amended.

DATES: This proposed action will be effective without further notice on October 14, 2008, unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-2386.

SUPPLEMENTARY INFORMATION: The Office of the Secretary of Defense systems of records notices subject to the Privacy Act of 1974, (5 U.S.C. 552a), as amended, have been published in the Federal Register and are available from the address above.

The proposed systems reports, as required by 5 U.S.C. 552a(r) of the Privacy Act of 1974, as amended, were submitted on September 1, 2008 to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: September 3, 2008.
Patricia Toppings,
OSD Federal Register Liaison Officer, Department of Defense.

DHA 18

SYSTEM NAME:

Human Research Protection Program (HRPP) Records.

SYSTEM LOCATION:

Office of the Under Secretary of Defense (Personnel and Readiness), Human Research Protection Program, Force Health Protection and Readiness Programs, 5113 Leesburg Pike, Four Skyline Place, Suite 901, Falls Church, VA 22041-3206.

CATEGORIES OF INDIVIDUALS COVERED BY THE SYSTEM:

Individuals who have requested approval from the Office of the Under Secretary of Defense (Personnel and Readiness) to engage in or to conduct research involving human participants and individuals responsible for the review, approval and oversight of such research.

CATEGORIES OF RECORDS IN THE SYSTEM:

Individual's name, address, email, telephone, resumes and training status.

AUTHORITY FOR MAINTENANCE OF THE SYSTEM:

10 U.S.C. 980, Limitations on use of humans as experimental subjects; 32 CFR 219, Protection of Human Subject; 45 CFR Part 46, Protection of Human Subjects, Department of Health and Human Services; and DoD Directive 3216.02, Protection of Human Subjects and adherence to Ethical Standards in DoD Supported Research.

PURPOSE(S):

To maintain a case file for use by Office of the Under Secretary of Defense (Personnel and Readiness) management concerning any research protocol. This system will permit identification, tracking and oversight of authorized research procedures and track the individual researchers and reviewers involved in the process. The purpose of tracking individuals is to ensure that everyone engaged in the performance or oversight of research is properly trained and qualified.

ROUTINE USES OF RECORDS MAINTAINED IN THE SYSTEM, INCLUDING CATEGORIES OF USERS AND THE PURPOSES OF SUCH USES:

In addition to those disclosures generally permitted under 5 U.S.C. 522a(b) of the Privacy Act, these records or information contained therein may specifically be disclosed outside the DoD as a routine use pursuant to 5 U.S.C. 522a(b)(3) as follows:

The DoD `Blanket Routine Uses' set forth at the beginning of OSD's compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

Individual's name.

SAFEGUARDS:

Access is provided on a need-to-know basis and to authorized authenticated personnel only. Security layers are in place to protect the software applications. Records are maintained in a secured area. Computer terminal access is controlled by password. Password authorization and monitoring are the responsibility of the system managers.

RETENTION AND DISPOSAL:

Delete/destroy 10 years after completion or termination of the research protocol (coincides with the term of the research). Records are burned and/or shredded.

SYSTEM MANAGER(S) AND ADDRESS:

Program Manager, Office of the Under Secretary of Defense (Personnel and Readiness) , Human Research Protection Program, Force Health Protection and Readiness Programs, Four Skyline Place, Suite 901, 5113 Leesburg Pike, Falls Church, VA 22041-3206.

NOTIFICATION PROCEDURE:

Individuals seeking to determine whether information about themselves is contained in this system of records should address written inquiries to the Program Manager, Office of the Under Secretary of Defense (Personnel and Readiness) Human Research Protection Program, Force Health Protection and Readiness Programs, Four Skyline Place, Suite 901, 5113 Leesburg Pike Falls Church, VA 22041-3206.

Requests should contain the full name of the individual, current address, telephone number, and signature.

RECORD ACCESS PROCEDURES:

Individuals seeking access to information about themselves contained in this system of records should address written inquiries to the OSD/JS FOIA Requester Service Center, 1155 Defense Pentagon, Washington, DC 20301-1155.

Requests must include the name and number of this system of record notice, individual's name and address, and must be signed.

CONTESTING RECORD PROCEDURES:

The Office of the Secretary of Defense (OSD) rules for accessing records, for contesting contents, and appealing initial agency determinations are published in OSD Administrative Instruction 81; 32 CFR part 311; or may be obtained from the system manager.

RECORD SOURCE CATEGORIES:

Individual.

EXEMPTIONS CLAIMED FOR THE SYSTEM:

None.

[FR Doc. E8-21105 Filed 9-10-08; 8:45 am]

BILLING CODE 5001-06-P